NATIONAL SCIENCE FOUNDATION

Agency Information Collection Activities: Comment Request

AGENCY: National Science Foundation.

ACTION: Submission for OMB review; comment request.

SUMMARY: The National Science Foundation (NSF) has submitted the following information collection requirement to OMB for review and clearance under the Paperwork Reduction Act of 1995, Public Law 104-13. This is the second notice for public comment; the first was published in the Federal Register at 74 FR 964, and three comments were received. NSF is forwarding the proposed renewal submission to the Office of Management and Budget (OMB) for clearance simultaneously with the publication of this second notice. The full submission of this information collection request may be found at: http://www.reginfo.gov/public/do/PRAMain. Comments regarding (a) whether the collection of information is necessary for the proper performance of the functions of the agency, including whether the information will have practical utility; (b) the accuracy of the agency's estimate of burden including the validity of the methodology and assumptions used; (c) ways to enhance the quality, utility and clarity of the information to be collected; or (d) ways to minimize the burden of the collection of information on those who are to respond, including through the use of appropriate automated, electronic, mechanical, or other technological collection techniques or other forms of information technology should be addressed to: Office of Information and Regulatory Affairs of OMB, Attention: Desk Officer for National Science Foundation, 725 17th Street, NW., Room 10235, Washington, DC 20503, and to Suzanne H. Plimpton, Reports Clearance Officer, National Science Foundation, 4201 Wilson Boulevard, Suite 295, Arlington, Virginia 22230 or send e-mail to chines@nsf.gov. Comments regarding these information collections are best assured of having their full effect if received within 30 days of this notification. Copies of the submission(s) may be obtained by calling 703-292-7556.

FOR FURTHER INFORMATION CONTACT: Suzanne H. Plimpton at (703) 292-7556 or send e-mail to splimpto@nsf.gov. Individuals who use a telecommunications device for the deaf (TDD) may call the Federal Information Relay Service (FIRS) at 1-800-877-8339 between 8 a.m. and 8 p.m., Eastern time, Monday through Friday.

NSF may not conduct or sponsor a collection of information unless the collection of information displays a currently valid OMB control number and the agency informs potential persons who are to respond to the collection of information that such persons are not required to respond to the collection of information unless it displays a currently valid OMB control number.

SUPPLEMENTARY INFORMATION: Comments: On January 9, 2009, we published in the Federal Register (74 FR 964) a 60-day notice of our intent to request renewal of this information collection authority from OMB. In that notice, we solicited public comments for 60 days ending March 10, 2009. Three comments were received from the public notice. The first comment came from B. Sachau of Floram Park, NJ, via e-mail on January 9, 2005. Ms. Sachau objected to the information collection. Ms. Sachau had no specific suggestions for altering the data collection plans other than to discontinue them entirely. Because the comment does not pertain to the collection of information on the required forms for which NSF is seeking OMB approval, NSF is proceeding with the clearance request.

The second comment (more of a request) came from Jerry Stone with the Bureau of Economic Analysis (BEA). He requested a copy of the current survey form and instructions, which were provided to him.

The third comment came from Dr. Dennis Fixler, the Chief Statistician of BEA, who submitted a letter of support for the survey (included with the information collection request materials found at the Web site above). This letter stated that the collected survey data are crucial to key components of BEA's economic statistics and requested some additional data elements be collected in future years. Some of these elements are planned to be collected on the redesigned survey instrument, which will be pilot tested with 40 institutions during the FY 2009 survey. The letter also requested that BEA be kept informed about modifications to the survey instrument.

Title: Survey of Research and Development Expenditures at Universities and Colleges.

OMB Control Number: 3145-0100.

Proposed Renewal Project: Separately budgeted current fund expenditures on research and development in the sciences and engineering performed by universities and colleges and Federally funded research and development centers—A Web survey, the Survey of Research and Development Expenditures at Universities and Colleges, originated in fiscal year (FY) 1954 and has been conducted annually since FY 1972. The survey is the academic research and development expenditure component of the NSF statistical program that seeks to provide a “central clearinghouse for the collection, interpretation, and analysis of data on the availability of, and the current and projected need for, scientific and technical resources in the United States, and to provide a source of information for policy formulation by other agencies of the Federal government,” as mandated in the National Science Foundation Act of 1950.

Use of the Information: The proposed project will continue the annual survey cycle for up to three years. The Academic R&D Survey will be a census of the full population—for FY 2009 an expected 751 institutions (713 universities or colleges plus 38 federally funded research and development centers—FFRDCs). These institutions account for over 95 percent of the Nation's academic R&D funds. NSF will also conduct a pretest of a revised and expanded version of the survey for planned implementation in FY 2010 with a subset of 40 universities or colleges.

The survey has provided continuity of statistics on R&D expenditures by source of funds and by science & engineering (S&E) field, with separate data requested on current fund expenditures for research equipment by S&E field. Further breakdowns are collected on passed through funds to subrecipients and received as a subrecipient, and on R&D expenditures by field of science and engineering from specific Federal Government agency sources. Information on R&D for non-S&E fields is also requested. Data are published in NSF's annual publication series Academic R&D Expenditures and are available electronically on the World Wide Web.

The survey is a fully automated Web data collection effort and is handled primarily by the administrators in university budget and accounting offices. To minimize burden, institutions are provided with an abundance of guidance and help menus on the Web, in addition to printing and responding via paper copy if necessary. Each record is pre-loaded with the institution's 2 previous years' data and a complete program for editing and trend checking. Response to this voluntary survey in FY 2007 was 96.9 percent.

Burden estimates are as follows: ¹

¹ Average burden hours for institutions responding to burden item.

Year | Total number of institutions | Doctorate-granting burden hours | Master's-granting burden hours | Bachelor's degree burden hours | FFRDC's burden hours
FY 1999 | 480 | 20.8 | 13.0 | 7.5 | 9.4
FY 2000 | 700 | 21.0 | 12.0 | 10.5 | 9.2
FY 2001 | 625 | 30.2 | 11.9 | 9.0 | 12.1
FY 2002 | 625 | 28.7 | 14.9 | 12.2 | 4.5

Dated: May 19, 2009.
Suzanne H. Plimpton,
Reports Clearance Officer, National Science Foundation.

[FR Doc. E9-11996 Filed 5-21-09; 8:45 am]

BILLING CODE 7555-01-P